DEPARTMENT OF JUSTICE

Drug Enforcement Administration

21 CFR Part 1308

[Docket No. DEA-623]

Schedules of Controlled Substances: Placement of 4-hydroxy-N,N-diisopropyltryptamine (4-OH-DiPT), 5-methoxy-alpha-methyltryptamine (5-MeO-AMT), 5-methoxy-N-methyl-N-isopropyltryptamine (5-MeO-MiPT), 5-methoxy-N,N-diethyltryptamine (5-MeO-DET), and N,N-diisopropyltryptamine (DiPT) in Schedule I; Announcement of Hearing

AGENCY: Drug Enforcement Administration, Department of Justice.

ACTION: Notice of hearing on proposed rulemaking.

SUMMARY: This is notice that the Drug Enforcement Administration will hold a hearing with respect to the proposed placement of five tryptamine hallucinogens, as identified in the proposed rule, in schedule I of the Controlled Substances Act. The control of the five tryptamines was initially proposed in a Notice of Proposed Rulemaking published in the Federal Register on January 14, 2022.

DATES: Interested persons desiring to participate in this hearing must provide written notice of desired participation as set out below, on or before August 5, 2022.

The hearing will commence on August 22, 2022, at 9 a.m. ET at the DEA Hearing Facility, 1550 Crystal Drive, Suite 901, Arlington, Virginia 22202.

ADDRESSES: To ensure proper handling of notification, please reference “Docket No. DEA-623” on all correspondence. Written notification sent via regular or express mail should be sent to Drug Enforcement Administration, Attn: Hearing Clerk, Office of the Administrative Law Judges, 8701 Morrissette Drive, Springfield, Virginia 22152. Electronic notification should be sent to ECF-DEA@dea.gov, with a copy simultaneously sent to: DEA.Registration.Litigation@dea.gov.

FOR FURTHER INFORMATION CONTACT: Hearing Clerk, Office of the Administrative Law Judges, 8701 Morrissette Drive, Springfield, Virginia 22152; Telephone: (571) 362-8188.

SUPPLEMENTARY INFORMATION:

Background

On January 14, 2022, the Drug Enforcement Administration (DEA) published a Notice of Proposed Rulemaking (NPRM) in the Federal Register (87 FR 2376) to place five tryptamine substances in schedule I of the Controlled Substances Act (CSA) (21 U.S.C. 801, et seq.). Specifically, in this NPRM, DEA proposed to schedule the following five controlled substances in schedule I of the CSA, including their salts, isomers, and salts of isomers whenever the existence of such salts, isomers, and salts of isomers is possible within the specific chemical designation:

• 4-Hydroxy-N,N-diisopropyltryptamine (4-OH-DiPT),

• 5-Methoxy-alphamethyltryptamine (5-MeO-AMT),

• N-Isopropyl-5-Methoxy-N-Methyltryptamine (5-MeO-MiPT),

• N,N-Diethyl-5-methoxytryptamine (5-MeO-DET), and

• N,N-Diisopropyltryptamine (DiPT).

The proposal in the NPRM to place these substances in schedule I was based primarily on the scientific and medical evaluations and recommendations provided by the Department of Health and Human Services (HHS) to DEA. In those submissions to DEA, HHS concluded that these five substances meet the criteria for placement in schedule I as they all have a high potential for abuse, no currently medical use in treatment in the United States, and a lack of accepted safety for use under medical supervision. DEA is bound by the recommendations of HHS as to scientific and medical matters.

The NPRM invited interested persons to submit comments, objections, and requests for a hearing on or before February 14, 2022, and received 589 comments and multiple requests for a hearing. In requesting a hearing, the requestors stated that their intention is to present factual information and expert opinion concerning the significance and reliability of the medical, scientific, and other bases that DEA provided in support of the proposed scheduling of the five tryptamine substances.

Hearing Notification

In response to these requests, pursuant to 21 U.S.C. 811(a), 21 CFR 1308.44, and 21 CFR 1316.47, DEA is convening a hearing on the NPRM. Accordingly, notice is hereby given that a hearing in connection with this proposed scheduling action will commence on August 22, 2022, at 9 a.m. ET at the DEA Hearing Facility, 1550 Crystal Drive, Suite 901, Arlington, Virginia 22202. The hearing will be conducted pursuant to the provisions of 5 U.S.C. 556 and 557, and 21 CFR 1308.41-1308.45, and 1316.41-1316.68.

Every interested person (defined by 21 CFR 1300.01(b) as “any person adversely affected or aggrieved by any rule or proposed rule issuable” under 21 U.S.C. 811) who wishes to participate in the hearing shall file either by mail or email a written notice of intention to participate. If filing via mail, the written notice must be filed with the Hearing Clerk, Office of the Administrative Law Judges, Drug Enforcement Administration, 8701 Morrissette Drive, Springfield, VA 22152, and must be received on or before August 5, 2022. If filing electronically, the written notice must be filed with the Office of the Administrative Law Judges at ECF-DEA@dea.gov, with a copy simultaneously sent to DEA counsel at DEA.Registration.Litigation@dea.gov, on or before 11:59 p.m. Eastern Time on August 5, 2022. Further, each notice of intention to participate must be in the form prescribed in 21 CFR 1316.48. No person who has previously filed a request for hearing need now file a notice of intention to participate.

Signing Authority

This document of the Drug Enforcement Administration was signed on June 30, 2022, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2022-14372 Filed 7-5-22; 8:45 am]

BILLING CODE 4410-09-P